DEPARTMENT OF JUSTICE

[OMB Number 1121-NEW]

Agency Information Collection Activities; Proposed eCollection eComments Requested; Approval of a New Collection; Comments Requested: National Survey of Victim Service Providers (NCVSP)

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until September 14, 2018.

FOR FURTHER INFORMATION CONTACT: If you have additional comments especially on the estimated public burden or associated response time, suggestions, or need a copy of the proposed information collection instrument with instructions or additional information, please contact Barbara Oudekerk, Statistician, Bureau of Justice Statistics, 810 Seventh Street NW, Washington, DC 20531 (email: Barbara.a.oudekerk@usdoj.gov; telephone: 202-616-3904).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: New collection.

(2) The Title of the Form/Collection: National Survey of Victim Service Providers

(3) The agency form number, if any, and the applicable component of the Department sponsoring the collection: The form number for the collection is NSVSP-1 (note, there will be no hard copy of the NSVSP instrument, the survey will be completed online or over the phone). The applicable component within the Department of Justice is the Bureau of Justice Statistics, in the Office of Justice Programs.

(4) Affected public who will be asked or required to respond, as well as a brief abstract: A sample of agencies serving crime victims as their primary function or through dedicated staff or programs will be asked to respond. The National Survey of Victim Service Providers will gather data on the number of victims served by type of crime, victim characteristics, types of services provided, criminal justice and community relationships, service gaps, and VSP staff size, turnover, and characteristics. BJS plans to publish information from the NSVSP in reports and reference it when responding to queries from the U.S. Congress, Executive Office of the President, the U.S. Supreme Court, partner federal agencies (e.g., Office for Victims of Crime), state officials, international organizations, researchers, students, the media, and others interested in criminal justice statistics.

(5) An estimate of the total number of respondents and the amount of time estimated for an average respondent to respond: A total of 8,067 victim service providers will be asked to respond to the survey. An estimated 5% of entities will no longer be in business or no longer serving victims. For ineligible respondents the survey will take less than 5 minutes to complete. Among active victim service providers, the expected response rate is 70%. For these 5,365 active victim service providers that decide to participate, it will take an average of 45 minutes to complete the survey.

(6) An estimate of the total public burden (in hours) associated with the collection: There are an estimated 4,058 total burden hours associated with this collection.

If additional information is required contact: Melody Braswell, Department Clearance Officer, United States Department of Justice, Justice Management Division, Policy and Planning Staff, Two Constitution Square, 145 N Street NE, 3E.405A, Washington, DC 20530.

Dated: July 10, 2018.
Melody Braswell,
Department Clearance Officer for PRA, U.S. Department of Justice.

[FR Doc. 2018-15056 Filed 7-13-18; 8:45 am]

BILLING CODE 4410-18-P